DEPARTMENT OF VETERANS AFFAIRS

[OMB Control No. 2900-0741]

Agency Information Collection Activity Under OMB Review: Department of Veterans Affairs, Office of Small and Disadvantaged Business Utilization (OSDBU) VA Form 0896A, Report of Subcontracts to Small and Veteran-Owned Business

AGENCY: Office of Small and Disadvantaged Business Utilization, Department of Veterans Affairs.

ACTION: Notice.

SUMMARY: In compliance with the Paperwork Reduction Act (PRA) of 1995, this notice announces that the Office of Small and Disadvantaged Business Utilization, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0741.”

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0741” in any correspondence.

SUPPLEMENTARY INFORMATION:

Authority: Under the PRA of 1995 (Pub. L. 104-13; 44 U.S.C. 3501-3521).

Title: Department of Veterans Affairs, Office of Small and Disadvantaged Business Utilization, VA Form 0896A.

OMB Control Number: 2900-0741.

Type of Review: Reinstatement with changes of a currently expired approved collection.

Abstract: This Paperwork Reduction Act (PRA) submission seeks reinstatement with changes of Office of Management and Budget (OMB) approval No. 2900-0741 as follows: Due to the increased number of respondents, the total annual burden hours increased by 400, from 610 to 1,010. However, the average burden time per response has not changed. The VA Form 0896A, Report of Subcontracts to Small and Veteran-owned Business is utilized to ensure that subcontract information reported by prime contractors and utilized for credit against subcontracting goals is accurate and includes Service-Disabled Veteran-Owned Small Business (SDVOSB) and Veteran-Owned Small Business (VOSB) that are verified for eligibility in the Vender Information Pages database maintained by VA OSDBU. This process involves the use of electronic submissions of information via email. Contractors will submit information on VA Form 0896A. In the event that a contractor does not have the capability to submit the form as an email attachment, it can also be provided as a hardcopy. VA OSDBU personnel will confirm the information reported on the form by the prime contractors through the VA's Vendor Information Pages and FFATA Subaward Reporting System (FSRS) databases and, when necessary, request that the SDVOSB and VOSB firms subcontracted by the prime contractors review it and verify its accuracy. The OSDBU will utilize the information reported by the prime contractors, the FSRS, and any subcontractors in order to compile annual reports to reflect the level of accuracy in the reporting being accomplished by the prime contractors. This will allow the VA to comply with the “review mechanism” requirement of Public Law 109-461. The Federal Register Notice with a 60-day comment period soliciting comments on this collection of information was published at 85 FR 147 on July 30, 2020 page 45960.

Affected Public: Business or other for-profit and not-for-profit institutions.

Estimated Annual Burden: 1,010 Burden Hours.

Estimated Average Burden Per Respondent: 120 Minutes.

Frequency of Response: Annually.

Estimated Number of Respondents: 505.

By direction of the Secretary.
Danny S. Green,
Department Clearance Officer, Office of Quality, Performance and Risk, Department of Veterans Affairs.

[FR Doc. 2020-26943 Filed 12-7-20; 8:45 am]

BILLING CODE 8320-01-P